DEPARTMENT OF THE INTERIOR

Bureau of Land Management

[CA-670-1220-NU]

Emergency Closure of Selected Public Lands in Eastern San Diego County, CA

AGENCY: Bureau of Land Management, Interior.

ACTION: Notice of Emergency Closure of Selected Public Lands in Eastern San Diego County, California.

SUMMARY: The Bureau of Land Management, El Centro Field Office (BLM), is providing notice pursuant to Title 43 Code of Federal Regulations (CFR) 8364.1 (Closure and Restriction Orders), which provides, in part, for the Authorized Officer to close or restrict use of designated public lands for the protection of persons, property, and public lands and resources.

Notice is hereby given that the El Centro Field Office (BLM) will immediately close selected public lands to public access in Eastern San Diego County, CA.

Due to extreme fire conditions currently in this area and in the interest of public safety, the following areas will be temporarily closed until the end of the current fire emergency.

(1) McCain Valley Conservation Area (22,852 acres) to include Cottonwood Campground, Lark Canyon Campground and Lark Canyon Day Use OHV Area, Boulevard, CA.

(2) Buck Canyon (2,763 acres), Ranchita, CA.

(3) Chariot Canyon/Rodriguez Canyon (6,870 acres), Julian, CA.

(4) San Felipe Hills (5,278 acres), Ranchita, CA.

DATES: The emergency closure is effective October 26, 2007 and will remain in effect until the end of the fire emergency and until rescinded or modified by the Authorized Officer. The restriction prohibiting public entry and use within the affected areas will help protect public health and safety.

ADDRESSES: Maps of the closure area may be obtained from the El Centro Field Office, 1661 S. 4th Street, El Centro, CA 92243, Phone 760-337-4400.

FOR FURTHER INFORMATION CONTACT: Stephen M. Razo, BLM California Desert District Director of External Affairs, (951) 697-5217.

SUPPLEMENTARY INFORMATION: The affected areas described herein will be subject to the following use restrictions:

1. Unless otherwise authorized, no person shall access the described restricted area.

2. Persons who are exempt from the restriction include:

a. Any Federal, State or local officers engaged in fire, emergency, or law enforcement activities;

b. BLM employees, contractors, or agents engaged in official duties;

c. Individuals operating within the scope of their official and legitimate governmental duties; and

d. Additional persons may be allowed, but must have advanced written approval from the BLM Authorized Officer, El Centro Field Office.

Maps of the closure area may be obtained from the El Centro Field Office, 1661 S. 4th Street, El Centro, CA 92243, Phone 760-337-4400. The areas affected by this order will be posted with appropriate regulatory signs and/or physical barriers.

Penalties: On all public lands, under section 303(a) of the Federal Land Policy and Management Act of 1976 (FLPMA), 43 U.S.C. 1733(a), 43 CFR 8360.0-7, and 43 CFR 9262.1, any person who violates any of these supplementary rules, closures or restrictions on public lands of this order may be tried before a United States Magistrate and fined no more than $1,000.00 or imprisoned for no more than 12 months, or both. Such violations may also be subject to enhancement fines provided for by 18 U.S.C. 3571 (not to exceed $100,000 and/or imprisonment not to exceed 12 months).

Dated: October 29, 2007.
Vicki L. Wood,
El Centro Field Office (BLM), Manager.

[FR Doc. E7-21675 Filed 11-2-07; 8:45 am]

BILLING CODE 4310-40-P